DEPARTMENT OF TRANSPORTATION

Federal Highway Administration

Environmental Impact Statement, Riverside County, CA

AGENCY: Federal Highway Administration (FHWA), DOT.

ACTION: Notice of withdrawal.

SUMMARY: The FHWA is issuing this notice to advise the public that the Notice of Intent to prepare an Environmental Impact Statement (EIS) for the proposed Bridge replacement, River Road Bridge, Riverside County, California will be withdrawn; and an Environmental Assessment (EA) in lieu of an EIS is being prepared for this proposed highway project.

FOR FURTHER INFORMATION CONTACT: Cesar Perez, Project Development and Environment Unit, Federal Highway Administration, California Division, 980 Ninth Street, Suite 400, Sacramento, California 95814-2724, Telephone: (916) 498-5020.

SUPPLEMENTARY INFORMATION: The FHWA, in cooperation with the California Department of Transportation (Caltrans), conducted studies of the potential environmental impacts associated with the proposed highway project to replace River Road Bridge, in Riverside County, California. During the course of conducting these studies and coordinating with regulatory and resource agencies, it was found that many of the potential environmental issues that led to issuing the Notice of Intent were not significant. In addition, changes to avoid or minimize potential impacts identified in early scoping have been made to the designs. One significant change in minimizing impacts is to replace the existing bridge with a significantly shorter bridge than originally planned (800 ft vs. 3000 ft), as well as utilizing stage construction in lieu of a full detour. The FHWA has determined that the proposed project is not likely to result in significant impacts to the environment; that an EA would be an appropriate environmental document for the project; and that the Notice of Intent, available on the Federal Register should be withdrawn.

The EA will be available for public inspection prior to the public meeting. Comments or questions concerning this proposed action and the determination that an EA is the proper environmental document should be directed to the FHWA at the address provided above.

(Catalog of Federal Domestic Assistance Program Number 20.205, Highway Research Planning and Construction. The regulations implementing Executive Order 12372 regarding intergovernmental consultation on federal programs and activities apply to this program.)

Issued on: July 21, 2003.
Cesar Perez,
Team Leader, Project Development and Environment—South Sacramento, California.

[FR Doc. 03-18953 Filed 7-24-03; 8:45 am]

BILLING CODE 4910-22-M